DEPARTMENT OF ENERGY

Federal Energy Regulatory Commission

[Docket No. RP03-117-000]

Williams Gas Pipelines Central, Inc.; Notice of Cash Balancing Report

December 3, 2002.

Take notice that on November 26, 2002, Williams Gas Pipelines Central, Inc. (Central) filed its report of payments received from penalties assessed due to Periods of Daily Balancing and Operational Flow Orders.

Pursuant to Sections 9.6 and 10.3 of Central's FERC Gas Tariff, Original Volume No. 1, Central states that it is reporting that neither a Period of Daily Balancing nor an Operational Flow Order was issued during the 12-month period of October 1, 2001 through September 30, 2002 and no penalties were assessed or collected. Therefore, no refunds are due from Central for the 12-month period ending September 30, 2002 and a refund plan is unnecessary.

Central states that a copy of this filing has been served on all of Central's jurisdictional customers and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed on or before December 10, 2002. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Linwood A. Watson, Jr.,
Deputy Secretary.

[FR Doc. 02-31096 Filed 12-6-02; 8:45 am]

BILLING CODE 6717-01-P